DEPARTMENT OF LABOR

Office of the Secretary

Bureau of International Labor Affairs; Office of Trade and Labor Affairs; National Advisory Committee for Labor Provisions of U.S. Free Trade Agreements; Notice of Open Meeting

AGENCY: Bureau of International Labor Affairs, U.S. Department of Labor.

ACTION: Notice of Open Meeting, October 13, 2011.

SUMMARY: Pursuant to the Federal Advisory Committee Act (FACA), as amended, 5. U.S.C. app. 2, the Office of Trade and Labor Affairs (OTLA) gives notice of a meeting of the National Advisory Committee for Labor Provisions of U.S. Free Trade Agreements (“Committee” or “NAC”), which was established by the Secretary of Labor.

During the inaugural meeting of the NAC on August, 25, 2011, a Sub-Committee was established to provide recommendations on how the United States can facilitate full implementation of the recommendations contained in the White Paper of the Working Group of the Vice Ministers Responsible for Trade and Labor in the Countries of Central America and the Dominican Republic. The purpose of the meeting is to present the recommendations developed by the Sub-Committee to the entire Committee. The Committee will review, discuss and finalize a set of recommendations for the Secretary of Labor through the Bureau of International Labor Affairs (ILAB) that will be included in the second Biennial CAFTA-DR Report to Congress.

DATES: The Committee will meet on Thursday, October 13, 2011 from 4 p.m. to 6 p.m.

ADDRESSES: The Committee will meet at the U.S. Department of Labor, 200 Constitution Avenue, NW., Deputy Undersecretary's Conference Room, Washington, DC 20210. Mail comments, views, or statements in response to this notice to Paula Church Albertson, Office of Trade and Labor Affairs, ILAB, U.S. Department of Labor, 200 Constitution Avenue, NW., Room S-5004, Washington, DC 20210; phone (202) 693-4789; fax (202) 693-4784.

FOR FURTHER INFORMATION CONTACT: Paula Church Albertson, Designated Federal Officer, Office of Trade and Labor Affairs, Bureau of International Labor Affairs, U.S. Department of Labor, 200 Constitution Avenue, NW., Room S-5004, Washington, DC 20210; phone (202) 693-4789 (this is not a toll free number). Individuals with disabilities wishing to attend the meeting should contact Ms. Albertson no later than October 6, 2011, to obtain appropriate accommodations.

SUPPLEMENTARY INFORMATION: NAC meetings are open to the public on a first-come, first-served basis, as seating is limited. Attendees must present valid identification and will be subject to security screening to access the Department of Labor for the meeting.

Agenda: The NAC agenda will include a report from the Subcommittee that developed “Recommendations on how the United States can facilitate full implementation of the recommendations contained in the White Paper,” as well as deliberations on or discussions of that report.

Public Participation: Written data, views, or comments for consideration by the NAC on the agenda listed above should be submitted to Paula Church Albertson at the address listed above. Submissions received by October 6, 2011, will be provided to Committee members and will be included in the record of the meeting. Requests to make oral presentations to the Committee may be granted as time permits.

Signed at Washington, DC, the 22nd day of September 2011.
Carol Pier,
Associate Deputy Undersecretary for International Affairs.

[FR Doc. 2011-24902 Filed 9-26-11; 8:45 am]

BILLING CODE 4510-28-P